DEPARTMENT OF HEALTH AND HUMAN SERVICES

Administration for Children and Families

Submission for OMB Review; Comment Request

Title: Employment Retention and Advancement (ERA) Evaluation 42-Month Survey.

OMB No.: New Collection.

Description: The proposed information collection is for follow-up information within the Employment Retention and Advancement (ERA) Evaluation that is sponsored by the Administration for Children and Families (ACF) of the U.S. Department of Health and Human Services.¹ The ERA project is a multi-year evaluation that is designed to study the net impact and cost-benefits of programs designed to help Temporary Assistance for Needy Families (TANF) recipients, former recipients, or families at-risk of needing TANF retain and advance in employment.² The ERA Evaluation involves 15 random assigment experiments in eight states, testing a diverse set of strategies. The ERA project will generate rigorous data on the implementation, effects, and costs of these alternative approaches. The data collected as part of the 42-month survey will be used for the purposes described below.

¹ The U.S. Department of Labor has also provided funding to support the ERA project.

² From the Department of Health and Human Services RFP No.: 105-99-8100.

• The survey data will allow for the analysis of ERA programs' impacts on a wider range of outcome measures than is available through welfare or Unemployment Insurance administrative records in order to more fully understand how individuals were affected by such programs. This will include outcomes such as length of job retention; job quality; educational attainment; household composition; employment barriers (such as child care, health status, and transportation); health insurance coverage; income; wealth, debt, and consumption; hardship (such as food insecurity); and children well-being.

• The data will allow for the conduct of non-experimental analyses to explain participation decisions and provide a descriptive picture of the circumstances of low-wage workers.

• The survey will address participation information important to the evaluation's cost-benefit component.

Respondents: The respondents of the 42-month survey are TANF applicants, current and former TANF recipients, or individuals in families at-risk of needing TANF benefits (working poor and hard-to-employ) who are in the research sample in a subset of the 15 programs participating in the ERA Evaluation. Survey participants will be administered a telephone survey approximately 42 months after the date they were enrolled in the research sample and randomly assigned to the treatment or control group. For those individuals who cannot be reached by phone, survey firm staff will attempt to contact them in person. A total of approximately 3,500 participants will complete the survey over a 2-year period (1,750 respondents annually).

Annual Burden Estimates
Instrument | Number of respondents | Number of responses per respondent | Average burden hours per response | Total burden hours
42-Month Survey | 1,750 | 1 | 30 minutes (or .50 hrs) | 875.0.

Estimated Total Annual Burden Hours: 875.0.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF. E-mail address: Katherine_T._Astrich@omb.eop.gov.

Dated: May 16, 2005.
Robert Sargis,
Reports Clearance Officer.

[FR Doc. 05-10122 Filed 5-19-05; 8:45 am]

BILLING CODE 4184-01-M